DEPARTMENT OF HOMELAND SECURITY

[Docket No. DHS-2010-0021]

National Protection and Programs Directorate; Statewide Communication Interoperability Plan Implementation Report

AGENCY: National Protection and Programs Directorate, DHS.

ACTION: 30-Day Notice and request for comments; New Information Collection Request: 1670-NEW.

SUMMARY: The Department of Homeland Security, National Protection and Programs Directorate/Cybersecurity and Communications/Office of Emergency Communications, has submitted the following Information Collection Request (ICR) to the Office of Management and Budget (OMB) for review and clearance in accordance with the Paperwork Reduction Act of 1995 (Pub. L. 104-13, 44 U.S.C. Chapter 35). The National Protection and Programs Directorate is soliciting comments concerning New Information Collection Request, Statewide Communication Interoperability Plan Implementation Report. DHS previously published this information collection request (ICR) in the Federal Register on January 5, 2010, at 75 FR 417, for a 60-day public comment period. DHS received no comments. The purpose of this notice is to allow an additional 30 days for public comments.

DATES: Comments are encouraged and will be accepted until May 24, 2010. This process is conducted in accordance with 5 CFR 1320.10.

ADDRESSES: Interested persons are invited to submit written comments on the proposed information collection to the Office of Information and Regulatory Affairs, Office of Management and Budget. Comments should be addressed to OMB Desk Officer, Department of Homeland Security, Office of Civil Rights and Civil Liberties. Comments must be identified by DHS-2010-0021 and may be submitted by one of the following methods:

• Federal eRulemaking Portal: http://www.regulations.gov.

• E-mail: oira_submission@omb.eop.gov. Include the docket number in the subject line of the message.

• Fax: (202) 395-5806.

Instructions: All submissions received must include the words “Department of Homeland Security” and the docket number for this action. Comments received will be posted without alteration at http://www.regulations.gov, including any personal information provided.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: The Department of Homeland Security (DHS), National Protection and Programs Directorate/Cybersecurity and Communications/Office of Emergency Communications, Jonathan Clinton, 202-343-1609, Jonathan.Clinton@dhs.gov.

SUPPLEMENTARY INFORMATION: The Office of Emergency Communications (OEC), formed under Title XVIII of the Homeland Security Act of 2002, 6 U.S.C. 101 et seq., is responsible for ensuring that activities funded by the Interoperable Emergency Communications Grant Program (IECGP) (6 U.S.C. 579) comply with the Statewide Communication Interoperability Plan (SCIP) for that State required by section 7303(f) of the Intelligence Reform and Terrorism Prevention Act of 2004 (6 U.S.C. 194(f)). Further, under the Implementing Recommendations of the 9/11 Commission Act of 2007 (6 U.S.C. 579(m)), a State that receives a grant under the IECGP must annually submit to the Director of OEC a report on the progress of the State in implementing its SCIP and on achieving interoperability at the city, county, regional, State, and interstate levels. OEC is then required to make these reports publicly available (6 U.S.C 579(m)). The SCIP Implementation Report Form is designed to meet these statutory requirements. SCIP Implementation Reports will be submitted electronically.

Analysis

Agency: Department of Homeland Security, National Protection and Programs Directorate.

Title: Statewide Communication Interoperability Plan Implementation Report.

Form: Not Applicable.

OMB Number: 1670-NEW.

Frequency: Yearly.

Affected Public: State, local, or tribal government.

Number of Respondents: 56.

Estimated Time per Respondent: 6 Hours.

Total Burden Hours: 336 annual burden hours.

Total Burden Cost (operating/maintaining): $8,205.12.

Signed: April 14, 2010.
Thomas Chase Garwood, III,
Chief Information Officer, National Protection and Programs Directorate, Department of Homeland Security.

[FR Doc. 2010-9320 Filed 4-21-10; 8:45 am]

BILLING CODE 9110-9P-P